DEPARTMENT OF ENERGY

Federal Energy Regulatory Commission

[Docket No. ER02-1656-000]

California Independent System Operator Corporation; Notice of FERC Staff Attendance

October 11, 2005.

The Federal Energy Regulatory Commission (Commission) hereby gives notice that on October 11-13, 2005, members of its staff will attend stakeholder meetings on the California Independent System Operator Corporation's (CAISO) Market Redesign and Technology Upgrade proposal Technical Specifications Workshop. The meetings will be held at the Lake Natoma Inn, located at 702 Gold Lake Drive, Folsom, CA 95630. An agenda and meeting documents can be found on the CAISO's Web site, http://www.caiso.com.

Sponsored by the CAISO, the meetings are open to the public, and staff's attendance is part of the Commission's ongoing outreach efforts. The meeting may discuss matters at issue in Docket No. ER02-1656-000.

For further information, contact Katherine Gensler at katherine.gensler@ferc.gov; (916) 294-0275.

Magalie R. Salas,
Secretary.

[FR Doc. E5-5698 Filed 10-14-05; 8:45 am]

BILLING CODE 6717-01-P